DEPARTMENT OF AGRICULTURE

Commodity Credit Corporation

Farm Service Agency

RIN 0560-AH60

Farm Storage Facility Loan Program; Public Meetings

AGENCY: Commodity Credit Corporation and Farm Service Agency, USDA.

ACTION: Notice of public meetings and request for comments.

SUMMARY: The Farm Service Agency (FSA), on behalf of the Commodity Credit Corporation (CCC), is holding public meetings to solicit comments on the Farm Storage Facility Loan (FSFL) Program. The comments received at the public meetings will be considered in the development and preparation of a Programmatic Environmental Assessment (PEA) for FSFL. The purpose of the PEA is to assist in providing USDA decision-makers and the public with an analysis of the environmental benefits and potential impacts associated with implementing various changes to FSFL consistent with the Food, Conservation and Energy Act of 2008 (the 2008 Farm Bill). CCC administers the FSFL program and is now conducting a comprehensive review of the current policies, achievements, and potential future program changes. The meetings provide an opportunity for the public to voice any concerns they may have about the program and any ideas for improving it in the future consistent with the 2008 Farm Bill.

DATES: Public meetings: The public meetings will be held on April 14, 2009, Kansas City, KS, and April 15, 2009, Cleveland, OH.

Comments: We will consider comments that we receive by May 13, 2009. We will consider comments submitted after that date, to the extent possible.

ADDRESSES: We invite you to submit comments on the Farm Storage Facility Loan Program and to participate in the public meetings. The public meeting locations are:

1. Kansas City—Hilton Garden Inn Kansas City (McCarthy Gallery), 520 Minnesota Avenue, Kansas City, KS 66101.

2. Cleveland—Hilton Garden Inn Cleveland Downtown (Edison 1 Room), 1100 Carnegie Avenue, Cleveland OH 44115.

You may also submit comments by any of the following methods:

• Mail: FSFL PEA, Geo-Marine Incorporated, 2713 Magruder Blvd., Suite D, Hampton, VA 23666-1572.

• Internet: Access http://public.geo-marine.com.

FOR FURTHER INFORMATION CONTACT: Matthew T. Ponish, National Environmental Compliance Manager, USDA, FSA, CEPD, Stop 0513, 1400 Independence Ave., SW., Washington, DC 20250-0513, (202) 720-6853, or e-mail at: Matthew.Ponish@wdc.usda.gov.

SUPPLEMENTARY INFORMATION: The FSFL program provides, through the FSA county offices, low-interest loans to eligible producers for constructing on-farm storage facilities for the commodities they produce. Since the FSFL Program was reestablished in May 2000, FSA has disbursed $731,453,541.46 in facility loans to over 18,600 producers to build or upgrade storage and handling facilities for 562,493,806 bushels of on-farm grain storage.

The 2008 Farm Bill (Pub. L. 110-246) includes several changes to the FSFL program. The 2008 Farm Bill adds hay and renewable biomass as eligible FSFL commodities; extends the maximum loan term to 12 years; increases the maximum loan amount to $500,000; and allows for one partial loan disbursement and the final disbursement. The 2008 Farm Bill also clarifies the loan security requirements. The 2008 Farm Bill gives the USDA Secretary discretionary authority to determine other eligible commodities. CCC is looking into the following questions and options:

• Defining the eligible structures for new commodities,

• Handling portions of FSFL structures not used for FSFL storage,

• Defining the purpose of FSFL facilities, and

• Further securing loans with no resale collateral value.

Changes to the FSFL program will be implemented through rulemaking. More detailed information on FSFL is available on FSA's Web site at: http://www.fsa.usda.gov/FSA/webapp?area=home&subject=prsu&topic=flp-fp.

Public Participation

To increase public involvement and provide additional opportunities to comment, FSA is holding two public scoping meetings to provide information and opportunities for discussing the issues and the proposed alternatives to be covered in the PEA. Consistent with the National Environmental Policy Act (NEPA), 42 U.S.C. 4321-4347, the PEA will analyze the environmental benefits and potential impacts associated with implementing the changes to FSFL as required by the 2008 Farm Bill. The two National meetings will be held on the following dates and locations:

Date | Time | Location information
April 14, 2009 | 5-8 p.m. | Hilton Garden Inn Kansas City in the McCarthy Gallery, 520 Minnesota Avenue, Kansas City, Kansas 66101; Phone 913-342-7900; Free parking.
April 15, 2009 | 5-8 p.m. | Hilton Garden Inn Cleveland Downtown, in Edison 1 Room, 1100 Carnegie Avenue, Cleveland, OH 44115; Phone: 216-658-6400.

Additional information about the public scoping meetings, including directions and how to provide comments, is available at: http://public.geo-marine.com.

A Final Programmatic Environmental Assessment (PEA) will be available from FSA or Geo-Marine Incorporated using the contact information included above.

Signed in Washington, DC, on March 26, 2009.
Robert Stephenson,
Acting Administrator, Farm Service Agency, and Executive Vice President, Commodity Credit Corporation.

[FR Doc. E9-7243 Filed 3-31-09; 8:45 am]

BILLING CODE 3410-05-P